DEPARTMENT OF TRANSPORTATION

Federal Highway Administration

Environmental Impact Statement: Wayne and Oakland Counties, MI

AGENCY: Federal Highway Administration (FHWA), U.S. DOT.

ACTION: Notice of availability (NOA) of the Final Environmental Impact Statement (FEIS) for the Detroit Intermodal Freight Terminal (DIFT) and Section 4(f) Evaluation.

SUMMARY: This notice announces the availability of the Final Environmental Impact Statement (FEIS) and Section 4(f) Evaluation for the DIFT. This action is pursuant to the National Environmental Policy Act (NEPA) of 1969, 42 U.S.C. 4321 et seq, as amended and the Council on Environmental Quality Regulations (40 CFR Parts 1500-1508). The FEIS identifies the Preferred Alternative to enhance the intermodal freight terminal at the Livernois-Junction Yard in Detroit, Michigan; describes the environmental impacts of the proposed project and proposed mitigation; and addresses comments received on the Draft Environmental Impact Statement and Section 4(f) Evaluation issued in April 15, 2005.

DATES: Any comments must be received on or before January 29, 2010. The FEIS waiting period ends 49 days after the U.S. Environmental Protection Agency publishes the DIFT's NOA in the Federal Register (currently scheduled to be published on December 11th).

ADDRESSES:

1. Document Availability: Copies of the FEIS are available for public inspection and review at the following locations:

• Ferndale Public Library, 222 E. Nine Mile, Ferndale, MI.

• Henry Ford Centennial Library, 16301 Michigan Ave., Dearborn, MI.

• Detroit Public Library, 5201 Woodward Ave., Detroit, MI.

• Bowen Branch of the Detroit Public Library, 3648 W. Vernor, Detroit, MI.

• MDOT Detroit Transportation Service Center, 1400 Howard St., Detroit, MI.

• MDOT Oakland Transportation Service Center, 2300 Dixie Hwy., Waterford, MI.

• MDOT Region Office, 18101 W. Nine Mile Rd., Southfield, MI.

• MDOT Bureau of Transportation Planning, 425 Ottawa St., Lansing, MI.

The document also may be viewed and commented on at http://www.michigan.gov/mdot/0,1607,7-151-9621_11058_26215—,00.html.

Copies of the FEIS may be requested from Bob Parsons (Public Involvement and Hearings Officer) at the Michigan Department of Transportation, 425 W. Ottawa Street, P.O. Box 30050, Lansing, MI 48909 or by calling (517) 373-9534.

2. Comments: Send any comments on the FEIS to the Michigan Department of Transportation, c/o Bob Parsons (Public Involvement and Hearings Officer), 425 W. Ottawa Street, P.O. Box 30050, Lansing, MI 48909; Fax: (517) 373-9255; or e-mail: parsonsb@michigan.gov. Information regarding this proposed action is available in alternative formats upon request.

FOR FURTHER INFORMATION CONTACT: Donald Cameron, Planning & Program Development Manager, at FHWA Michigan Division, 315 W. Allegan Street, Room 201; Lansing, MI 48933; by phone at (517) 702-1826, or e-mail at Donald.Cameron@dot.gov. David Williams, Environmental Program Manager, FHWA Michigan Division, 315 W. Allegan Street, Room 201; Lansing, MI 48933; by phone at (517) 702-1820; or e-mail at David.Williams@dot.gov.

SUPPLEMENTARY INFORMATION: The DEIS for the DIFT was approved in April 2005. Since more than three years has passed since the signing of the DEIS, a re-evaluation of the DIES was done in accordance with 23 CFR 771.129. This FEIS reflect the comments received during the public hearing process and updated data in all critical areas.

The goal of the project is to provide and/or improve regional intermodal facilities, owned and/or operated by the one or more of the DIFT Rail Related participants—Grand Trunk Western Railroad, Inc. (CN); Canadian Pacific Railway Company (CP); CSX Transportation, Inc. (CSX); Norfolk Southern Railway company (NS); and the Michigan Department of Transportation (MDOT)—with sufficient capacity and interconnectivity to provide for existing and future intermodal demand and to reduce time, monetary costs, and congestion to the support the economic competitiveness of Southeastern Michigan. This will be done by providing necessary intermodal terminal capacity and improving the related rail and highway infrastructure within Wayne and Oakland counties.

The Detroit Intermodal Freight terminal Project Pre-Development Plan Agreement was established to further refine the understandings and intentions of the DIFT Rail Related Participants.

Purpose and Need for the Project: The purpose of the DIFT is to enhance intermodal operations and economic competitiveness of Southeast Michigan by improving freight transportation opportunities and efficiencies for business, industry, and the military. The need to enhance intermodal operations results from Detroit's need for greater intermodal capacity and improved connectivity.

Preferred Alternative: The Preferred Alternative involves consolidating intermodal operations of the CSX, NS, and CP railroads at the Livernois-Junction Yard in Southwest Detroit and improving external connectors to benefit all Class I railroads, including CN.

Authority: 42 U.S.C. 4321 et seq, as amended and the Council on Environmental Quality Regulations (40 CFR Parts 1500-1508) 23 CFR 771.117; and 23 U.S.C. 139(1)(1).

Issued on: December 1, 2009.
James J. Steele,
Division Administrator, Lansing, Michigan.

[FR Doc. E9-29189 Filed 12-10-09; 8:45 am]

BILLING CODE 4910-22-P